DEPARTMENT OF ENERGY

Federal Energy Regulatory Commission

Combined Notice of Filings

Take notice that the Commission has received the following Natural Gas Pipeline Rate and Refund Report filings:

Filings Instituting Proceedings

Docket Numbers: RP11-2531-000.

Applicants: Stingray Pipeline Company, LLC.

Description: Stingray Pipeline Company, LLC submits tariff filing per 154.206: motion filing to be effective 10/1/2011.

Filed Date: 09/30/2011.

Accession Number: 20110930-5001.

Comment Date: 5 p.m. Eastern Time on Wednesday, October 12, 2011.

Docket Numbers: RP11-2617-000.

Applicants: Midcontinent Express Pipeline LLC.

Description: Midcontinent Express Pipeline LLC submits tariff filing per 154.204: Filing to Remove Expired Tenaska Agreement to be effective 11/1/2011.

Filed Date: 09/29/2011.

Accession Number: 20110929-5078.

Comment Date: 5 p.m. Eastern Time on Tuesday, October 11, 2011.

Docket Numbers: RP11-2618-000.

Applicants: Williston Basin Interstate Pipeline Company.

Description: Williston Basin Interstate Pipeline Company submits tariff filing per 154.204: Mutual Contract Extension to be effective 10/30/2011.

Filed Date: 09/29/2011.

Accession Number: 20110929-5080.

Comment Date: 5 p.m. Eastern Time on Tuesday, October 11, 2011.

Docket Numbers: RP11-2619-000.

Applicants: Transcontinental Gas Pipe Line Company, LLC.

Description: Transcontinental Gas Pipe Line Company, LLC submits tariff filing per 154.501: Annual Cash-Out Report Period Ending July 31, 2011 to be effective N/A.

Filed Date: 09/29/2011.

Accession Number: 20110929-5102.

Comment Date: 5 p.m. Eastern Time on Tuesday, October 11, 2011.

Docket Numbers: RP11-2620-000.

Applicants: Maritimes & Northeast Pipeline, LLC.

Description: Maritimes & Northeast Pipeline, LLC submits tariff filing per 154.403(d)(2): MNUS FRQ 2011 to be effective 11/1/2011.

Filed Date: 09/29/2011.

Accession Number: 20110929-5104.

Comment Date: 5 p.m. Eastern Time on Tuesday, October 11, 2011.

Docket Numbers: RP11-2621-000.

Applicants: Natural Gas Pipeline Company of America LLC.

Description: Natural Gas Pipeline Company of America LLC submits tariff filing per 154.204: Remove Expired/Expiring Agreements to be effective 11/1/2011.

Filed Date: 09/29/2011.

Accession Number: 20110929-5118.

Comment Date: 5 p.m. Eastern Time on Tuesday, October 11, 2011.

Docket Numbers: RP11-2622-000.

Applicants: CenterPoint Energy Gas Transmission Company, LLC.

Description: CenterPoint Energy Gas Transmission Company, LLC submits tariff filing per 154.204: CEGT LLC—Material Deviations Filing—September 2011 to be effective 10/30/2011.

Filed Date: 09/29/2011.

Accession Number: 20110929-5152.

Comment Date: 5 p.m. Eastern Time on Tuesday, October 11, 2011.

Docket Numbers: RP11-2623-000.

Applicants: Gas Transmission Northwest LLC.

Description: Gas Transmission Northwest LLC submits tariff filing per 154.204: Medford Extension Rate Increase to be effective 11/1/2011.

Filed Date: 09/30/2011.

Accession Number: 20110930-5033.

Comment Date: 5 p.m. Eastern Time on Wednesday, October 12, 2011.

Docket Numbers: RP11-2624-000.

Applicants: Big Sandy Pipeline, LLC.

Description: Big Sandy Pipeline, LLC submits tariff filing per 154.204: Revised EQT Energy Negotiated Rate Agreement to be effective 10/1/2011.

Filed Date: 09/30/2011.

Accession Number: 20110930-5035.

Comment Date: 5 p.m. Eastern Time on Wednesday, October 12, 2011.

Docket Numbers: RP11-2625-000.

Applicants: Transcontinental Gas Pipe Line Company, LLC.

Description: Transcontinental Gas Pipe Line Company, LLC submits tariff filing per 154.402: GSS LSS SS-2 S-2 2011 TGPL ACA Tracker Filing to be effective 10/1/2011.

Filed Date: 09/30/2011.

Accession Number: 20110930-5036.

Comment Date: 5 p.m. Eastern Time on Wednesday, October 12, 2011.

Docket Numbers: RP11-2626-000.

Applicants: Transcontinental Gas Pipe Line Company, LLC.

Description: Transcontinental Gas Pipe Line Company, LLC submits tariff filing per 154.403(d)(2): LNG Fuel Tracker Filing to be effective 11/1/2011.

Filed Date: 09/30/2011.

Accession Number: 20110930-5048.

Comment Date: 5 p.m. Eastern Time on Wednesday, October 12, 2011.

Docket Numbers: RP11-2627-000.

Applicants: Algonquin Gas Transmission, LLC.

Description: Algonquin Gas Transmission, LLC submits tariff filing per 154.204: Non-conforming Agreement with Nextera to be effective 10/1/2011.

Filed Date: 09/30/2011.

Accession Number: 20110930-5053.

Comment Date: 5 p.m. Eastern Time on Wednesday, October 12, 2011.

Docket Numbers: RP11-2628-000.

Applicants: Kern River Gas Transmission Company.

Description: Kern River Gas Transmission Company submits tariff filing per 154.204: 2011 Pooling, Ivanpah to be effective 11/1/2011.

Filed Date: 09/30/2011.

Accession Number: 20110930-5054.

Comment Date: 5 p.m. Eastern Time on Wednesday, October 12, 2011.

Docket Numbers: RP11-2629-000.

Applicants: Texas Gas Transmission, LLC.

Description: Texas Gas Transmission, LLC submits tariff filing per 154.403(d)(2): 2011 Fuel Tracker Filing to be effective 11/1/2011.

Filed Date: 09/30/2011.

Accession Number: 20110930-5058.

Comment Date: 5 p.m. Eastern Time on Wednesday, October 12, 2011.

Docket Numbers: RP11-2630-000.

Applicants: Texas Gas Transmission, LLC.

Description: Texas Gas Transmission, LLC submits tariff filing per 154.204: ProLiance Negotiated Rate Agreements Filing to be effective 10/1/2011.

Filed Date: 09/30/2011.

Accession Number: 20110930-5063.

Comment Date: 5 p.m. Eastern Time on Wednesday, October 12, 2011.

Docket Numbers: RP11-2631-000.

Applicants: Colorado Interstate Gas Company.

Description: Colorado Interstate Gas Company submits tariff filing per 154.204: Totem Withdrawal/Deliverability Curve Change to be effective 11/1/2011.

Filed Date: 09/30/2011.

Accession Number: 20110930-5067.

Comment Date: 5 p.m. Eastern Time on Wednesday, October 12, 2011.

Docket Numbers: RP11-2632-000.

Applicants: Texas Gas Transmission, LLC.

Description: Texas Gas Transmission, LLC submits tariff filing per 154.204: NICOR Amendment to Negotiated Rate Agreement to be effective 10/1/2011.

Filed Date: 09/30/2011.

Accession Number: 20110930-5071.

Comment Date: 5 p.m. Eastern Time on Wednesday, October 12, 2011.

Docket Numbers: RP11-2633-000.

Applicants: Iroquois Gas Transmission System, L.P.

Description: Iroquois Gas Transmission System, L.P. submits tariff filing per 154.403: 09/30/11 DAS Termination to be effective 11/1/20110.

Filed Date: 09/30/2011.

Accession Number: 20110930-5075.

Comment Date: 5 p.m. Eastern Time on Wednesday, October 12, 2011.

Docket Numbers: RP11-2634-000.

Applicants: Williston Basin Interstate Pipeline Company.

Description: Williston Basin Interstate Pipeline Company submits tariff filing per 154.204: 2011 Account 191 Filing to be effective 9/30/2011.

Filed Date: 09/30/2011.

Accession Number: 20110930-5094.

Comment Date: 5 p.m. Eastern Time on Wednesday, October 12, 2011.

Docket Numbers: RP11-2635-000.

Applicants: CenterPoint Energy Gas Transmission Company, LLC.

Description: CenterPoint Energy Gas Transmission Company, LLC submits tariff filing per 154.204: CEGT LLC—October 2011 Negotiated Rate Filing to be effective 10/1/2011.

Filed Date: 09/30/2011.

Accession Number: 20110930-5101.

Comment Date: 5 p.m. Eastern Time on Wednesday, October 12, 2011.

Docket Numbers: RP11-2636-000.

Applicants: Dauphin Island Gathering Partners.

Description: Dauphin Island Gathering Partners submits tariff filing per 154.204: Negotiated Rates 2011-09-30 to be effective 10/1/2011.

Filed Date: 09/30/2011.

Accession Number: 20110930-5102.

Comment Date: 5 p.m. Eastern Time on Wednesday, October 12, 2011.

Docket Numbers: RP11-2637-000.

Applicants: Williston Basin Interstate Pipeline Company.

Description: Williston Basin Interstate Pipeline Company submits tariff filing per 154.204: Non-Conforming Service Agreements—Baker Expansion to be effective 11/1/2011.

Filed Date: 09/30/2011.

Accession Number: 20110930-5106.

Comment Date: 5 p.m. Eastern Time on Wednesday, October 12, 2011.

Docket Numbers: RP11-2638-000.

Applicants: Midwestern Gas Transmission Company.

Description: Midwestern Gas Transmission Company submits tariff filing per 154.204: NonConforming Agreements—BP, et al to be effective 11/1/2011.

Filed Date: 09/30/2011.

Accession Number: 20110930-5107.

Comment Date: 5 p.m. Eastern Time on Wednesday, October 12, 2011.

Docket Numbers: RP11-2639-000.

Applicants: Northern Border Pipeline Company.

Description: Northern Border Pipeline Company submits tariff filing per 154.601: Ameren Non-conforming Agreement to be effective 12/31/9998.

Filed Date: 09/30/2011.

Accession Number: 20110930-5109.

Comment Date: 5 p.m. Eastern Time on Wednesday, October 12, 2011.

Docket Numbers: RP11-2640-000.

Applicants: Kinder Morgan Interstate Gas Transmission LLC.

Description: Kinder Morgan Interstate Gas Transmission LLC submits tariff filing per 154.204: Negotiated Rate 2011-09-30 Enserco to be effective 10/1/2011.

Filed Date: 09/30/2011.

Accession Number: 20110930-5116.

Comment Date: 5 p.m. Eastern Time on Wednesday, October 12, 2011.

Docket Numbers: RP11-2641-000.

Applicants: Williston Basin Interstate Pipeline Company.

Description: Annual Report of Penalty Revenue Credits of Williston Basin Interstate Pipeline Company.

Filed Date: 09/30/2011.

Accession Number: 20110930-5143.

Comment Date: 5 p.m. Eastern Time on Wednesday, October 12, 2011.

Docket Numbers: RP11-2642-000.

Applicants: Columbia Gas Transmission, LLC.

Description: Columbia Gas Transmission, LLC submits tariff filing per 154.204: Service Agreements—Non-Conforming Clean Up to be effective 11/1/2011.

Filed Date: 09/30/2011.

Accession Number: 20110930-5146.

Comment Date: 5 p.m. Eastern Time on Wednesday, October 12, 2011.

Docket Numbers: RP11-2643-000.

Applicants: Panhandle Eastern Pipe Line Company, LP.

Description: Panhandle Eastern Pipe Line Company, LP submits tariff filing per 154.204: Fuel Filing on 9-30-2011 to be effective 11/1/2011.

Filed Date: 09/30/2011.

Accession Number: 20110930-5147.

Comment Date: 5 p.m. Eastern Time on Wednesday, October 12, 2011.

Docket Numbers: RP11-2644-000.

Applicants: Carolina Gas Transmission Corporation.

Description: Carolina Gas Transmission Corporation submits tariff filing per 154.204: 2011 FRQ & TDA Filing to be effective 11/1/2011.

Filed Date: 09/30/2011.

Accession Number: 20110930-5148.

Comment Date: 5 p.m. Eastern Time on Wednesday, October 12, 2011.

Docket Numbers: RP11-2645-000.

Applicants: Southwest Gas Storage Company.

Description: Southwest Gas Storage Company submits tariff filing per 154.204: Fuel Filing on 9-30-2011 to be effective 11/1/2011.

Filed Date: 09/30/2011.

Accession Number: 20110930-5149.

Comment Date: 5 p.m. Eastern Time on Wednesday, October 12, 2011.

Docket Numbers: RP11-2646-000.

Applicants: Trunkline Gas Company, LLC.

Description: Trunkline Gas Company, LLC submits tariff filing per 154.204: Fuel Filing on 9-30-11 to be effective 11/1/2011.

Filed Date: 09/30/2011.

Accession Number: 20110930-5160.

Comment Date: 5 p.m. Eastern Time on Wednesday, October 12, 2011.

Docket Numbers: RP11-2647-000.

Applicants: Trunkline Gas Company, LLC.

Description: Trunkline Gas Company, LLC submits tariff filing per 154.203: Annual Report of Flow Through filed on 9-30-11 to be effective N/A.

Filed Date: 09/30/2011.

Accession Number: 20110930-5168.

Comment Date: 5 p.m. Eastern Time on Wednesday, October 12, 2011.

Docket Numbers: RP11-2648-000.

Applicants: PetroLogistics Natural Gas Storage, LLC.

Description: PetroLogistics Natural Gas Storage, LLC submits tariff filing per 154.204: Revision to Adopt Section for the Operational Purchase and Sale of Gas to be effective 10/31/2011.

Filed Date: 09/30/2011.

Accession Number: 20110930-5179.

Comment Date: 5 p.m. Eastern Time on Wednesday, October 12, 2011.

Docket Numbers: RP11-2649-000.

Applicants: Tennessee Gas Pipeline Company.

Description: Tennessee Gas Pipeline Company submits tariff filing per 154.204: 300 Line Project Recourse Rate to be effective 11/1/2011.

Filed Date: 09/30/2011.

Accession Number: 20110930-5225.

Comment Date: 5 p.m. Eastern Time on Wednesday, October 12, 2011.

Docket Numbers: RP11-2650-000.

Applicants: Dominion Transmission, Inc.

Description: Dominion Transmission, Inc. submits tariff filing per 154.403: DTI—2011 Annual EPCA to be effective 11/1/2011.

Filed Date: 09/30/2011.

Accession Number: 20110930-5231.

Comment Date: 5 p.m. Eastern Time on Wednesday, October 12, 2011.

Docket Numbers: RP11-2651-000.

Applicants: Dominion Transmission, Inc.

Description: Dominion Transmission, Inc. submits tariff filing per 154.403(d)(2): DTI—2011 Annual TCRA to be effective 11/1/2011.

Filed Date: 09/30/2011.

Accession Number: 20110930-5236.

Comment Date: 5 p.m. Eastern Time on Wednesday, October 12, 2011.

Docket Numbers: RP11-2652-000.

Applicants: ANR Pipeline Company.

Description: ANR Pipeline Company submits tariff filing per 154.601: Wisconsin Non-Conforming Agreements to be effective 11/1/2011.

Filed Date: 09/30/2011.

Accession Number: 20110930-5251.

Comment Date: 5 p.m. Eastern Time on Wednesday, October 12, 2011.

Docket Numbers: RP11-2653-000.

Applicants: Algonquin Gas Transmission, LLC.

Description: Algonquin Gas Transmission, LLC submits tariff filing per 154.204: GDF SUEZ Agreements to be effective 10/1/2011.

Filed Date: 09/30/2011.

Accession Number: 20110930-5262.

Comment Date: 5 p.m. Eastern Time on Wednesday, October 12, 2011.

Docket Numbers: RP11-2654-000.

Applicants: Columbia Gulf Transmission Company.

Description: Columbia Gulf Transmission Company submits tariff filing per 154.204: Service Agreements—Non-Conforming Clean Up to be effective 11/1/2011.

Filed Date: 09/30/2011.

Accession Number: 20110930-5266.

Comment Date: 5 p.m. Eastern Time on Wednesday, October 12, 2011.

Docket Numbers: RP11-2655-000.

Applicants: Tennessee Gas Pipeline Company.

Description: Tennessee Gas Pipeline Company submits tariff filing per 154.204: Negotiated Non-Conforming ETQ Energy—Line 300 Project to be effective 11/1/2011.

Filed Date: 09/30/2011.

Accession Number: 20110930-5268.

Comment Date: 5 p.m. Eastern Time on Wednesday, October 12, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-1957-002.

Applicants: Stingray Pipeline Company, LLC.

Description: Stingray Pipeline Company, LLC submits tariff filing per 154.203: Motion to Place Rates into Effect to be effective 10/1/2011.

Filed Date: 09/29/2011.

Accession Number: 20110929-5151.

Comment Date: 5 p.m. Eastern Time on Tuesday, October 11, 2011.

Docket Numbers: RP11-2611-001.

Applicants: Southern Star Central Gas Pipeline, Inc.

Description: Southern Star Central Gas Pipeline, Inc. submits tariff filing per 154.205(b): Scheduling Priorities—November 1 Effective Date (Related to RP11-2135) to be effective 11/1/2011.

Filed Date: 09/29/2011.

Accession Number: 20110929-5049.

Comment Date: 5 p.m. Eastern Time on Tuesday, October 11, 2011.

Docket Numbers: RP11-1957-003.

Applicants: Stingray Pipeline Company, LLC.

Description: Stingray Pipeline Company, LLC submits tariff filing per 154.203: Motion to Place Rates Into Effect to be effective 10/1/2011.

Filed Date: 09/30/2011.

Accession Number: 20110930-5151.

Comment Date: 5 p.m. Eastern Time on Wednesday, October 12, 2011.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: October 3, 2011.
Nathaniel J. Davis, Sr.,
Deputy Secretary.

[FR Doc. 2011-26078 Filed 10-7-11; 8:45 am]

BILLING CODE 6717-01-P